DEPARTMENT OF STATE

[Public Notice 7896]

U.S. Department of State Advisory Committee on Private International Law (ACPIL)—Online Dispute Resolution (ODR) Study Group

The Office of Private International Law, Office of the Legal Adviser, Department of State hereby gives notice that the ACPIL Online Dispute Resolution (ODR) Study Group will hold a public meeting on Friday June 15, 2012, from 10:00 a.m. to 2:00 p.m. The public meeting will take place at the State Department Harry S Truman Building. The ACPIL ODR Study Group will meet to discuss the recent session of the UNCITRAL ODR Working Group, held May 21 through May 25, 2012, and will specifically address security issues relating to use of the ODR rules, including measures to address the risk of fraud involving consumers who participate.

The UNCITRAL ODR Working Group is charged with the development of legal instruments for resolving both business to business and business to consumer cross-border electronic commerce disputes. The Working Group is in the process of developing generic ODR procedural rules for resolution of cross-border electronic commerce disputes, along with separate instruments that may take the form of annexes on guidelines and minimum requirements for online dispute resolution providers and arbitrators, substantive legal principles for resolving disputes, and a cross-border enforcement mechanism. Among the key issues that the Working Group are security issues relating to use of the ODR Rules, including measures to address the risk of fraud involving consumers who participate.

For the reports of the first three sessions of the UNCITRAL ODR Working Group—December 13-17, 2010, in Vienna (A/CN.9/716); May 23-27, 2011, in New York ((A/CN.9/721); and Nov. 14-18, 2011, in Vienna (A/CN.9/739)—please follow the following link: http://www.uncitral.org/uncitral/commission/working_groups/3Online_Dispute_Resolution.html. The report of the May 21-25, 2012 session in New York should be available on the same link in advance of the public meeting.

Time and Place: The public meeting will take place in Room 6323 in the Harry S Truman Building, 2201 C Street NW., Washington, DC 20520. Participants should arrive by 9:30 a.m. at the C Street entrance for visitor screening. If you are unable to attend the public meeting and would like to participate from a remote location, teleconferencing will be available.

Public Participation: This Study Group meeting is open to the public, subject to the capacity of the meeting room. Access to the building is controlled; persons wishing to attend should contact Tricia Smeltzer (SmeltzerTK@state.gov) or Niesha Toms (TomsNN@state.gov) of the Office of Private International Law and provide their name, address, email address, affiliation, date of birth, citizenship, and driver's license or passport number for admission into the meeting. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. A member of the public needing reasonable accommodation should advise those same contacts not later than June 10. Requests made after that date will be considered, but might not be able to be fulfilled. If you are unable to attend the public meeting and you would like to participate by teleconferencing, please contact Tricia Smeltzer or Niesha Toms to receive the conference call-in number and the relevant information. Persons who cannot attend but who wish to comment are welcome to do so by email to Michael Dennis at DennisMJ@state.gov.

Dated: May 21, 2012.
Michael Coffee,
Attorney-Adviser, Office of Private International Law, Office of the Legal Adviser, Department of State.

[FR Doc. 2012-12938 Filed 5-25-12; 8:45 am]

BILLING CODE 4710-08-P